DEPARTMENT OF AGRICULTURE

Submission for OMB Review; Comment Request

March 9, 2018.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by April 13, 2018 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Study of Third-Party Processor (TPP) Services, Fees, and Business Practices.

OMB Control Number: 0584-NEW.

Summary of Collection: Section 4011 of the Agricultural Act of 2014 (Pub. L. 113-79; “2014 Farm Bill”) ended the provision of EBT equipment and services free of charge to retailers participating in SNAP. Retailers that previously received EBT equipment and payment processing services free of charge are now required to procure equipment and services independently. The goal of the study is to understand the business practices of Third Party Processors (TPPs) and independent sales organizations (ISOs) that provide Electronic Benefit Transfer (EBT) processing services and equipment to authorized retailers participating in the Supplemental Nutrition Assistance Program (SNAP).

Need and Use of the Information: This study seeks to understand the business practices of TPPs and ISOs that provide EBT processing services and equipment to SNAP retailers to (1) assess retailers' satisfaction with EBT products and services needed to participate in the SNAP program; and (2) develop a set of best practices to inform FNS's guidance for retailers on what to consider when selecting, contracting with, and working with EBT vendors (TPPs and ISOs). The study results will also provide FNS with the information needed to inform future FNS policies regarding requirements for vendors providing EBT equipment and services to authorized retailers and TPP services-related guidance for retailers.

Description of Respondents: Business-not-for-profit.

Number of Respondents: 1,875.

Frequency of Responses: Reporting: Annually.

Total Burden Hours: 579.

Ruth Brown,
Departmental Information Collection Clearance Officer.

[FR Doc. 2018-05135 Filed 3-13-18; 8:45 am]

BILLING CODE 3410-30-P